DEPARTMENT OF THE INTERIOR

Fish and Wildlife Service

[FWS-R4-ES-2015-N040; FXES11130400000C2-156-FF04E00000]

Endangered and Threatened Wildlife and Plants; Draft Recovery Plan for Coquí Llanero

AGENCY: Fish and Wildlife Service, Interior.

ACTION: Notice of availability and request for public comment.

SUMMARY: We, the U.S. Fish and Wildlife Service, announce the availability of the draft recovery plan for the endangered coquí llanero, a frog endemic to Puerto Rico. The draft recovery plan includes specific recovery objectives and criteria that must be met in order for us to remove this species from listing under the Endangered Species Act of 1973, as amended. We request review and comment on this draft recovery plan from local, State, and Federal agencies, and the public.

DATES: In order to be considered, comments on the draft recovery plan must be received on or before September 7, 2018.

ADDRESSES:

Document availability: You may obtain a copy of this draft recovery plan by contacting Jan Zegarra, U.S. Fish and Wildlife Service, Caribbean Ecological Services Field Office, P.O. Box 491, Boquerón, PR 00622; tel. (787) 851-7297; or by visiting the Service's Caribbean Field Office website at https://www.fws.gov/caribbean/ES/Index.html.

Comment submission: You may submit comments by one of the following methods:

1. Submit written comments and materials by mail or hand-delivery to Jan Zegarra, at the above address.

2. Fax them to (787) 851-7440.

3. Send comments by email to jan_zegarra@fws.gov. Please include “Coquí llanero Draft Recovery Plan Comments” in the subject line.

For additional information about submitting comments, see Request for Public Comments.

FOR FURTHER INFORMATION CONTACT: Jan Zegarra at (787) 851-7297, or see ADDRESSES for further methods of contact.

SUPPLEMENTARY INFORMATION: We, the U.S. Fish and Wildlife Service, announce the availability of the draft recovery plan for the endangered coquí llanero (Eleutherodactylus juanariveroi). The draft recovery plan includes specific recovery objectives and criteria that must be met in order for us to remove this species from listing under the Endangered Species Act of 1973, as amended (ESA; 16 U.S.C. 1531 et seq.). We request review and comment on this draft recovery plan from local, State, and Federal agencies and the public.

Background

The coquí llanero is a small frog species endemic to Puerto Rico. In 2007, it was described as a new species of the genus Eleutherodactylus, family Leptodactylidae. Males measure approximately 0.58 in (14.7 mm), and females 0.62 in (15.8 mm). It has the smallest clutch size of all Eleutherodactylus species on Puerto Rico, and a high-frequency call. The only population estimate available for the coquí llanero indicates a mean population size of 473.3 ± 186 individuals per ha (or 192 per ac; Ríos-López pers. comm. 2011).

The coquí llanero is currently known to be restricted to one freshwater herbaceous wetland in the municipality of Toa Baja, Puerto Rico. The herbaceous vegetation in the wetland consists of Blechnum serrulatum (toothed midsorus fern), Thelypteris interrupta (willdenow's maiden fern), Sagittaria lancifolia (bulltongue arrowhead), Cyperus sp. (flatsedges), Eleocharis sp. (spike rushes), and vines and grasses (Ríos-López and Thomas 2007). The species is currently threatened by the combined influences of urban development, activities associated with the operation and future closure of the Toa Baja municipal landfill, activities associated with clearing water channels for flood control, and invasive wetland plant species. Additional threats include restricted distribution and highly specialized ecological requirements, which may exacerbate other potential threats like landfill leachate pollution, the use of herbicides, brush fires, competition, and environmental effects resulting from climate change.

Under the ESA, the Service added the coquí llanero as an endangered species to the Federal List of Endangered and Threatened Wildlife in title 50 of the Code of Federal Regulations on October 4, 2012 (77 FR 60778). The 2012 final rule also designated critical habitat, covering an area of 615 ac (249 ha), for the species.

The recovery strategy for the coquí llanero includes protection and management of occupied habitat and suitable unoccupied habitat for potential future introductions, and addresses immediate threats that led to its listing. Because of stressors like reduced geographic distribution, limited dispersal capabilities, and the species' specialized breeding requirements, the species is likely to have reduced adaptive capacity. Therefore, in order to meet the recovery goal of delisting, we must increase the number of coquí llanero populations. This strategy seeks to safeguard the only existing coquí llanero population in case the species does not withstand or recover from a stochastic or catastrophic event.

Section 4(f) of the ESA requires the development of recovery plans for listed species, unless such a plan would not promote the conservation of a particular species. Recovery plans describe actions considered necessary for conservation of the species, establish criteria for downlisting or delisting, and estimate time and cost for implementing recovery measures. Section 4(f) of the ESA also requires us to provide public notice and an opportunity for public review and comment during recovery plan development. We will consider all information presented during a public comment period prior to approval of each new or revised recovery plan. We and other Federal agencies will take these comments into account in the course of implementing approved recovery plans.

Recovery Plan

The ultimate recovery goal is to remove the coquí llanero from the Federal List of Endangered and Threatened Wildlife (delist) at 50 CFR 17.11(h) by ensuring the long-term viability of the species in the wild. In the recovery plan, we define the following reasonable delisting criteria based on the best available information on the species. These criteria will be reevaluated as new information becomes available:

1. Three viable * coquí llanero populations demonstrate stable or increasing population trends (addresses Listing Factors A and E).

2. Habitat for three viable coquí llanero populations is protected in perpetuity through a conservation mechanism (e.g., land acquisition, conservation easements) (addresses Listing Factor A).

3. Threats and causes of decline have been reduced or eliminated to a degree that the coquí llanero does not need protection under the Act (e.g., developing management plans, public awareness and education) (addresses Listing Factor A and E).

* The term “viable” is defined in the draft recovery plan.

Request for Public Comments

We request written comments on the draft recovery plan. We will consider all comments we receive by the date specified in DATES prior to final approval of the plan.

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Dated: June 29, 2018.
Michael Oetker,
Acting Regional Director, Southeast Region.

[FR Doc. 2018-14683 Filed 7-6-18; 8:45 am]

BILLING CODE 4333-15-P